DEPARTMENT OF JUSTICE

[OMB Number: 1105—NEW]

Agency Information Collection: Submission to OMB for Review and Approval

AGENCY: Civil Division, Department of Justice.

ACTION: 30-Day notice.

SUMMARY: The Department of Justice, Civil Division, is submitting the following information collection request to the Office of Management and Budget (OMB) for review and approval in accordance with the Paperwork Reduction Act of 1995. This proposed information collection was previously published in the Federal Register allowing for a 60 day comment period.

DATES: The Department of Justice encourages public comment and will accept input until August 6, 2018.

FOR FURTHER INFORMATION CONTACT: If you have additional comments especially on the estimated public burden or associated response time, suggestions, or need a copy of the proposed information collection instrument with instructions or additional information, please contact Julie Childs, 950 Pennsylvania Ave. NW, Washington, DC 20005, Attn: Civil Communications Office (Attn: Elder Justice Initiative) (Phone: 202-598-0292).

Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Civil Division, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of information collection: New Generic.

2. The title of the form/collection: Data Collection Survey to gain a better understanding of the prevalence and impact of elder abuse and elder abuse prevention methods and tools.

3. The agency form number, if any, and the applicable component of the Department sponsoring the collection: Civil Division, United States Department of Justice.

4. Affected public who will be asked or required to respond, as well as a brief abstract: Professionals working on elder abuse and elder justice issues.

Abstract: The U.S. Department of Justice, Elder Justice Initiative will conduct surveys to gain a better understanding of the needs of older Americans who may be at risk of, or the victims of, elder abuse and the needs of elder justice professionals to build their capacity to better serve and protect older adults from elder abuse.

5. An estimate of the total number of respondents and the amount of time estimated for an average respondent to respond: It is estimated that no more than 5,000 respondents will apply. Each application takes approximately less than 30 minutes to complete and is submitted once per year (annually).

6. An estimate of the total public burden (in hours) associated with the collection:

The total hour burden to complete the applications is estimated to be 6,000 hours.

Category of respondent | Number of respondents | Participation time | Burden hours
Elder Justice Professionals | 5,000 | 30 minutes | 2,500
State Local and Tribal government agencies | 5,000 | 30 minutes | 2,500
Focus Groups | 1,000 | 1 hour | 1,000
Totals |  |  | 6,000

If additional information is required contact: Melody Braswell, Department Clearance Officer, United States Department of Justice, Justice Management Division, Policy and Planning Staff, Two Constitution Square, 145 N Street NE, 3E.405A, Washington, DC 20530.

Dated: July 2, 2018.
Melody Braswell,
Department Clearance Officer for PRA, U.S. Department of Justice.

[FR Doc. 2018-14488 Filed 7-5-18; 8:45 am]

BILLING CODE 4410-12-P